DEPARTMENT OF COMMERCE

National Oceanic and Atmospheric Administration

50 CFR Part 679

[RTID 0648-XF002; Docket No. 250312-0036]

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the non-specified reserve to the initial total allowable catch (ITAC) of Bering Sea (BS) Greenland turbot, BS “other rockfish,” BS Pacific ocean perch, and Bering Sea and Aleutian Islands (BSAI) “other flatfish.” This action is necessary to allow the fisheries to continue operating. It is intended to promote the goals and objectives of the fishery management plan for the BSAI management area.

DATES: Effective June 26, 2025, through 2400 hours, Alaska local time, December 31, 2025. Comments must be received at the following address no later than 4:30 p.m., Alaska local time, July 11, 2025.

ADDRESSES: You may submit comments on this document, identified by docket number NOAA-NMFS-2024-0116, by any of the following methods:

Electronic Submission: Submit all electronic public comments via the Federal e- Rulemaking Portal. Visit https://www.regulations.gov and type NOAA-NMFS-2024-0116 in the Search box. Click on the “Comment” icon, complete the required fields, and enter or attach your comments.

Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Steve Whitney, 907-586-7228.

SUPPLEMENTARY INFORMATION: NMFS manages the groundfish fishery in the BSAI exclusive economic zone according to the Fishery Management Plan for Groundfish of the BSAI Management Area (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 ITAC of BS Greenland turbot was established as 1,203 metric tons (mt), the 2025 ITAC of BS “other rockfish” was established as 543 mt, the 2025 ITAC of BS Pacific ocean perch was established as 8,603 mt, and the 2025 ITAC of BSAI “other flatfish” was established as 3,825 mt by the final 2025 and 2026 harvest specifications for groundfish of the BSAI (90 FR 12640, March 18, 2025). In accordance with § 679.20(a)(3) the Regional Administrator, Alaska Region, NMFS, has reviewed the most current available data and finds that the ITACs for BS Greenland turbot, BS “other rockfish,” BS Pacific ocean perch, and BSAI “other flatfish” need to be supplemented from the non-specified reserve to promote efficiency in the utilization of fishery resources in the BSAI and allow fishing operations to continue.

Therefore, in accordance with § 679.20(b)(3), NMFS apportions from the non-specified reserve of groundfish to ITACs in the BSAI management area as follows: 61 mt to BS Greenland turbot, 96 mt to BS “other rockfish,” 1,518 mt to BS Pacific ocean perch, and 1,400 mt to BSAI “other flatfish.” These apportionments are authorized by § 679.20(b)(1)(i) and consistent with § 679.20(a)(3) and do not result in overfishing of any target species because the revised ITACs and total allowable catches (TACs) are equal to or less than the specifications of the acceptable biological catch in the final 2025 and 2026 harvest specifications for groundfish in the BSAI (90 FR 12640, March 18, 2025).

The harvest specifications for the 2025 ITACs and TACs included in the final 2025 and 2026 harvest specifications for groundfish in the BSAI are revised as follows: 1,415 mt for BS Greenland turbot TAC (which reflects the revised ITAC of 1,264 mt and the Community Development Quota reserve allocation of 151 mt), 639 mt for BS “other rockfish,” 10,121 mt for BS Pacific ocean perch, and 5,225 mt for BSAI “other flatfish.”

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the apportionment of the non-specified reserves of groundfish to BS Greenland turbot, BS “other rockfish,” BS Pacific ocean perch, and BSAI “other flatfish.” This action is necessary for the efficient utilization of fishery resources in the BSAI and to allow the fisheries harvesting these groundfish to continue operating. NMFS was unable to publish a notice providing time for public comment because the most recent, relevant data on catch of BS Greenland turbot, BS “other rockfish,” BS Pacific ocean perch, and BSAI “other flatfish” only became available as of June 13, 2025. Finally, NMFS provided notice and an opportunity for public comment on the proposed 2025 and 2026 harvest specifications for groundfish in the BSAI that included the amount of proposed non-specified reserves from which NMFS can apportion to any target species that contributed to that reserve (89 FR 96186, December 4, 2024). The final 2025 and 2026 harvest specifications for groundfish in the BSAI explained that, during the fishing year, any amount of the non-specified reserve may be apportioned by NMFS to a target species that contributed to the non-specified reserves consistent with § 679.20(b)(1)(i) (90 FR 12640, March 18, 2025).

The Assistant Administrator for Fisheries, NOAA also finds good cause to waive the 30-day delay in the effective date of this action under 5 U.S.C. 553(d)(3). This finding is based upon the reasons provided above for waiver of prior notice and opportunity for public comment.

Under § 679.20(b)(3)(iii), interested persons are invited to submit written comments on this action (see ADDRESSES section) until July 11, 2025.

Authority: 16 U.S.C. 1801 et seq.

Dated: June 24, 2025.
Kelly Denit,
Director, Office of Sustainable Fisheries, National Marine Fisheries Service.

[FR Doc. 2025-11867 Filed 6-26-25; 8:45 am]

BILLING CODE 3510-22-P